DEPARTMENT OF TRANSPORTATION

Federal Highway Administration

Notice of Final Federal Agency Actions on Proposed Transportation Projects in Florida

AGENCY: Federal Highway Administration (FHWA), DOT.

ACTION: Notice of Limitation of Claims for Judicial Review of Actions by FHWA, and other Federal Agencies.

SUMMARY: This notice announces actions taken by the FHWA and other Federal Agencies since January 1, 2013, that are final within the meaning of 23 U.S.C. 139(l)(1). The actions relate to the proposed SR 40 (from 1 mile W of SR 326 to US 17/SR 15) in Marion, Lake and Volusia Counties; SR 200/US 301 Baldwin Bypass in Duval County; PJ Adams Parkway in Okaloosa County; SR 710 (from SR 76 to Blue Heron Blvd. at I-95) in Martin and Palm Beach Counties; SR 968/SW 1st Street Bridge over Miami River (from SW 5th Avenue to SW 2nd Avenue) in Miami-Dade County; Starke Bypass US 301 (from CR 227 to CR 233) in Bradford County; Crosstown Parkway (from Manth Lane to US 1) in St. Lucie County, and St. Johns River Crossing in Clay and St. Johns Counties in the State of Florida. These actions grant licenses, permits, and approvals for the project.

DATES: By this notice, the FHWA is advising the public of final agency actions subject to 23 U.S.C. 139(l)(1). A claim seeking judicial review of the Federal agency actions on the listed highway projects will be barred unless the claim is filed on or before November 6, 2014. If the Federal law that authorizes judicial review of a claim provides a time period of less than 150 days for filing such claim, then that shorter time period still applies.

FOR FURTHER INFORMATION, CONTACT: Mr. Benito Cunill, Environmental Coordinator, FHWA Florida Division, 545 John Knox Road, Suite 200, Tallahassee, Florida 32303; telephone: 850-553-2224; email: benito.cunill@dot.gov. The FHWA Florida Division Office's normal business hours are 7:30 a.m. to 4:00 p.m. (Eastern Standard Time), Monday through Friday, except Federal holidays.

SUPPLEMENTARY INFORMATION: Notice is hereby given that the FHWA has taken final agency action subject to 23 U.S.C. 139(l)(1) by issuing licenses, permits, and approvals for the projects listed below. The actions by the Federal agencies on a project, and the laws under which such actions were taken, are described in the documented environmental assessment (EA) and environmental impact statement (EIS) issued in connection with the project, and in other project records for the listed projects. The EA and FEIS and other documents from the FHWA project records for the listed projects are available by contacting the FHWA or by using the links provided below.

This notice applies to all Federal agency decisions as of the issuance date of this notice and all laws under which such actions were taken. Pursuant to 23 U.S.C. 139(l) laws generally applicable to such actions include but are not limited to:

1. General: National Environmental Policy Act (NEPA) [42 U.S.C. 4321-4351; Federal-Aid Highway Act [23 U.S.C. 109 and 23 U.S.C. 128].

2. Air: Clean Air Act, 42 U.S.C. 7401-7671(q).

3. Land: Section 4(f) of the Department of Transportation Act of 1966 [49 U.S.C. 303 and 23 U.S.C. 138].

4. Wildlife: Endangered Species Act [16 U.S.C. 1531-1544 and 1536]; Marine Mammal Protection Act [16 U.S.C. 1361], Fish and Wildlife Coordination Act [16 U.S.C. 661-667(d); Migratory Bird Treaty Act (MBTA) [16 U.S.C. 703-712]; Magnuson-Stevenson Fishery Conservation and Management Act of 1976, as amended [16 U.S.C. 1801 et seq.].

5. Historic and Cultural Resources: Section 106 of the National Historic Preservation Act of 1966, as amended [16 U.S.C. 470(f) et seq.]; Archaeological Resources Protection Act of 1977 (ARPA) [16 U.S.C. 470(aa)-470(II)]; Archaeological and Historic Preservation Act (AHPA) [16 U.S.C. 469-469(c)]; Native American Grave Protection and Repatriation Act (NAGPRA) [25 U.S.C. 3001-3013].

6. Social and Economic: Civil Rights Act of 1964 [42 U.S.C. 20009(d)-2000(d)(1)]; American Indian Religious Freedom Act [42 U.S.C. 1996]; Farmland Protection Policy Act (FPPA) [7 U.S.C. 4201-4209].

7. Wetlands and Water Resources: Clean Water Act (Section 404, Section 401, Section 319) [33 U.S.C. 1251-1377]; Coastal Barriers Resources Act (CBRA) [16 U.S.C. 3501 et seq.]; Coastal Zone Management Act (CZMA) [16 U.S.C. 1451-1465]; Land and Water Conservation Fund (LWCF) [16 U.S.C. 4601-4604]; Safe Drinking Water Act (SDWA) [42 U.S.C. 300(f)-300(j)(6)]; Rivers and Harbors Act of 1899 [33 U.S.C. 401-406]; Wild and Scenic Rivers Act [16 U.S.C. 1271-1287]; Emergency Wetlands Resources Act [16 U.S.C. 3921, 3931]; Wetlands Mitigation, [23 U.S.C. 103(b)(6)(M) and 103(b)(11)]; Flood Disaster Protection Act [42 U.S.C. 4001-4128].

8. Executive Orders: E.O. 11990 Protection of Wetlands; E.O. 11988 Floodplain Management; E.O. 12898, Federal Actions to Address Environmental Justice in Minority Populations and Low Income Populations; E.O. 11593 Protection and Enhancement of Cultural Resources; E.O. 13287 Preserve America; E.O. 13175 Consultation and Coordination with Indian Tribal Governments; E.O. 11514 Protection and Enhancement of Environmental Quality; E.O. 13112 Invasive Species.

The projects subject to this notice are:

1. Project Location: Marion, Lake, and Volusia Counties, SR 40. Financial Project Number 410674, 410675, and 410676. Project type: The SR 40 project proposes improving the existing two-lane roadway to a four-lane divided roadway from the beginning of the study area near Silver Springs to SE 183rd Avenue Road (Levy Hammock Road) and is called the Capacity Improvement Area in the Environmental Assessment. The remainder of the project is referred to as the No Capacity Improvement Area. The total project length is approximately 40 miles. The actions by the FHWA and the laws under which such actions were taken are described in the Environmental Assessment (EA) and in the Finding of No Significant Impact (FONSI) issued on April 18, 2013, and are available at http://sr40pde.com/.

2. Project Location: Baldwin, Duval County, SR 200/US 301. Federal-Aid Project Number: 3115-025-P. Project type: The SR 200/US 301 Baldwin Bypass proposes a 4.1 mile four-lane divided highway on new alignment to serve as an alternate route for S.R. 200/U.S. 301 to bypass the Town of Baldwin. The project includes two railroad overpasses and one Rails-to-Trails overpass. The project will connect with the existing U.S. 301 on the south and the north sides of Baldwin and will intersect with U.S. 90. The actions by the FHWA and the laws under which such actions were taken are described in the Environmental Assessment (EA) and in the Finding of No Significant Impact (FONSI) issued on May 24, 2013, and are available at http://www.us301northflorida.com/Pages/Home.aspx.

3. Project Location: Crestview, Okaloosa County, PJ Adams Parkway. Financial Project Number: 421997-1-28-01. Project type: The PJ Adams Parkway, on existing and new alignment, will provide system linkage, needed capacity, and safety improvements from SR 85 to US 90 as a western route around the City of Crestview, FL. The actions by the FHWA and the laws under which such actions were taken are described in the Environmental Assessment (EA) and in the Finding of No Significant Impact (FONSI) issued on August 28, 2013, and are available by contacting Peggy Kelley, with the FDOT Environmental Management Office at (850) 330-1517, or peggy.kelley@dot.state.fl.us.

4. Project Location: Martin and Palm Beach Counties, SR 710. Financial Project Number: 419348-2-22-01 and 419348-1-22-01. Project type: The SR 710 project proposes to add capacity to SR 710 in Martin and Palm Beach Counties, and provide a new urban interchange at Northlake Boulevard. The actions by the FHWA and the laws under which such actions were taken are described in the Environmental Assessment (EA) and in the Finding of No Significant Impact (FONSI) issued on January 6, 2014, and are available at https://etdmpub.fla-etat.org/est/, ETDM #7151.

5. Project Location: Miami, Miami-Dade County, SR 968/SW 1st Street. Federal-Aid Project Number: 6158011U. Project type: The SR 968/SW 1st Street Bridge project proposes bridge replacement with improved clearance from underlying roads, improved travel lines for boat traffic, improved bumper widths at boat travel lane, improved height over mean high water level, and updated bascule mechanisms. The actions by the FHWA and the laws under which such actions were taken are described in the Environmental Assessment (EA) and in the Finding of No Significant Impact (FONSI) issued on December 9, 2013, and are available at https://etdmpub.fla-etat.org/est/, ETDM #11240.

6. Project Location: Starke, Bradford County, US 301. Federal-Aid Project Number: 3114-018-P. Project type: The Starke Bypass US 301 project proposes to provide a 4 lane limited-access highway facility that will provide a 7.3 mile bypass around the City of Starke in Bradford County. The actions by the FHWA and the laws under which such actions were taken are described in the EIS and Record of Decision (ROD) issued on February 12, 2014, and available at http://www.us301northflorida.com/Pages/Home.aspx.

7. Project Location: Port St. Lucie, St. Lucie County, Crosstown Parkway. Federal-Aid Project Number: 7777-087-A. Project type: The Crosstown Parkway project proposes to provide a New Bridge Crossing of the North Fork of the St. Lucie River on the Crosstown Parkway from Manth Lane to US 1. The actions by the FHWA and the laws under which such actions were taken are described in the EIS and Record of Decision (ROD) issued on February 24, 2014, and are available at https://etdmpub.fla-etat.org/est/, ETDM #8247.

8. Project Location: Clay and St. Johns Counties, new road—St. Johns River Crossing. Federal-Aid Project Number: SFTL 264 R. Project Type: The first segment starts as a four-lane facility at the intersection of Brannan Field-Chaffee Road and SR 21 in Clay County, crosses Black Creek, and continues southeast to US 17, where it becomes as a 6-lane facility crossing the St. Johns River with a replacement of the Shands Bridge. The project continues east to 16A where it transitions back to a 4-lane facility in St. Johns County to its terminus at I-95. The actions by the FHWA and the laws under which such actions were taken are described in the EIS and Record of Decision (ROD) issued on April 7, 2014, and are available at http://firstcoastexpressway.com/SJRBridge/documents-and-publications.shtml.

(Catalog of Federal Domestic Assistance Program Number 20.205, Highway Planning and Construction. The regulations implementing Executive Order 12372 regarding intergovernmental consultation on Federal programs and activities apply to this program.)

Authority: 23 U.S.C. 139(l)(1).

Issued on: May 28, 2014.
James C. Christian,
Division Administrator, Federal Highway Administration.

[FR Doc. 2014-13321 Filed 6-6-14; 8:45 am]

BILLING CODE 4910-RY-P